DEPARTMENT OF LABOR

Employment and Training Administration

Notice of Availability of Funds and Solicitation for Grant Applications for National Farmworker Jobs Program Grants

AGENCY: Employment and Training Administration, Labor.

ACTION: Notice of Solicitation for Grant Applications (SGA).

Funding Opportunity Number: SGA/DFA PY 12-05.

SUMMARY: The Employment and Training Administration (ETA), U.S. Department of Labor (DOL or Department) announces a grant competition for the National Farmworker Jobs Program (NFJP), authorized under section 167 of the Workforce Investment Act (WIA). NFJP provides training, employment services, and related assistance in order to increase economic opportunities for migrant and seasonal farmworkers (MSFW) and their dependents. The Department is exercising its option under WIA to continue grant awards to NFJP grantees that have performed successfully, and hold a grant competition for service delivery areas in which the current grantee has not performed adequately. Therefore, this grant competition is only seeking applications to operate NFJP in the following service areas: California (central California service area covering Merced, Madera and Stanislaus Counties), Hawaii, Indiana, Michigan, Mississippi, New Jersey, and Puerto Rico. A total of approximately $9.6 million is expected to be available for grants in these service areas. However, the final amount available depends upon the amount of funds appropriated for NFJP in the Fiscal Year (FY) 2013 Department of Labor Appropriations Act.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 2, 2013. Applications must be received no later than 4:00:00 p.m. Eastern Time.

FOR FURTHER INFORMATION CONTACT: Serena Boyd, 200 Constitution Avenue NW., Room N-4716, Washington, DC 20210; Telephone: 202-693-3338.

Signed February 4, 2013 in Washington, DC
Donna Kelly,
Grant Officer, Employment and Training Administration.

[FR Doc. 2013-03092 Filed 2-11-13; 8:45 am]

BILLING CODE 4510-FN-P